DEPARTMENT OF ENERGY

Federal Energy Regulatory Commission

[Docket No. RP00-472-001, and RP01-31-001]

USG Pipeline Company; Notice of Compliance Filing

April 5, 2002.

Take notice that on April 1, 2002, USG Pipeline Company (USGPC) tendered for filing pursuant to the Commission's March 1, 2002, order in the above-captioned proceeding the following tariff sheets revised in compliance with the March 1 order and Order Nos. 637, 587-G, and 587-L.

First Revised Sheet No. 32

First Revised Sheet No. 33

First Revised Sheet No. 34

First Revised Sheet No. 35

First Revised Sheet No. 36

First Revised Sheet No. 47

Original Sheet No. 47A

First Revised Sheet No. 51

Original Sheet No. 51A

First Revised Sheet No. 55

First Revised Sheet No. 56

First Revised Sheet No. 57

Original Sheet No. 57A

First Revised Sheet No. 58

First Revised Sheet No. 75

First Revised Sheet No. 76

First Revised Sheet No. 81

First Revised Sheet No. 84

First Revised Sheet No. 89

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-8908 Filed 4-11-02; 8:45 am]

BILLING CODE 6717-01-P